DEPARTMENT OF ENERGY

Federal Energy Regulatory Commission

[Project No., P-12642-007]

Wilkesboro Hydroelectric Company; Notice of Application Accepted for Filing, Soliciting Comments, Motions To Intervene, and Protests

Take notice that the following hydroelectric application has been filed with the Commission and is available for public inspection:

a. Type of Proceeding: Amendment of License.

b. Project No.: 12642-007.

c. Date Filed: June 19, 2015.

d. Licensee: Wilkesboro Hydroelectric Company.

e. Name of Project: W. Kerr Scott Hydropower Project.

f. Location: The proposed project would be located at the existing U.S. Army Corps of Engineers' (Corps) W. Kerr Scott dam on the Yadkin River, near Wilkesboro in Wilkes County, North Carolina. A total of 3.5 acres of federal lands, administered by the Corps, would be occupied by the proposed project.

g. Filed Pursuant to: Federal Power Act, 16 U.S.C. 791a-825r.

h. Licensee Contact: Mr. Kevin Edwards, P.O. Box 143, Mayodan, NC 27027, Telephone: (336) 589-6138, Email: kevin@piedmonthydrotech.com.

i. FERC Contact: Mr. M Joseph Fayyad, (202) 502-8759, mo.fayyad@ferc.gov.

j. Deadline for filing comments, interventions and protests is 30 days from the issuance date of this notice by the Commission. The Commission strongly encourages electronic filing. Please file motions to intervene, protests and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-12642-007.

k. Description of Request: The licensee proposes to revise the design of the project facilities as follows: (1) Change the design and placement of the intake structure to be located approximately 900 feet north of the existing intake tower on the north bank of the reservoir, rather than utilizing the existing intake tower for the hydroelectric project; (2) change the size and location of the penstock from the existing discharge conduit to an 800-foot-long tunnel bored through the rock north abutment of the dam. The size of the penstock will change from the 11 feet in diameter to 10 feet in diameter for the sections of penstock not bored through the rock, and reduce to 6 to 8 feet in diameter for the steel-lined rock tunnel; (3) change the powerhouse location from the south bank of the existing discharge channel to the north bank of the discharge channel; (4) reduce the number of generating units from two, to a single turbine and generator, having a hydraulic capacity of 500 cubic feet per second (cfs) and an installed capacity of 2,000 kilowatts (kW); (5) add a new impact basin structure; (6) a 32-foot-long, 90-foot-wide tailrace; and (7) change the transmission length from 150 feet to 500 feet. The proposed change to the generating units would reduce the hydraulic capacity from 800 cfs to 500 cfs and the installed capacity from 4,000 kW to 2,000 kW.

l. This filing may be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction in the Commission's Public Reference Room located at 888 First Street NE., Room 2A, Washington, DC 20426, or by calling (202) 502-8371.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .212 and .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

p. A license applicant must file, no later than 60 days following the date of issuance of this notice: (1) A copy of the water quality certification; (2) a copy of the request for certification, including proof of the date on which the certifying agency received the request; or (3) evidence of waiver of water quality certification.

Dated: August 5, 2015.
Nathaniel J. Davis, Sr.,
Deputy Secretary.

[FR Doc. 2015-19693 Filed 8-10-15; 8:45 am]

BILLING CODE 6717-01-P